FEDERAL RESERVE SYSTEM

Agency Information Collection Activities: Announcement of Board Approval Under Delegated Authority and Submission to OMB

AGENCY: Board of Governors of the Federal Reserve System

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Acting Federal Reserve Clearance Officer-Michelle Long--Division of Research and Statistics, Board of Governors of the Federal Reserve System, Washington, DC 20551 (202-452-3829).

OMB Desk Officer-Joseph Lackey--Office of Information and Regulatory Affairs, Office of Management and Budget, New Executive Office Building, Room 10235, Washington, DC 20503.

Final approval under OMB delegated authority of the extension for three years, without revision, of the following reports:

1. Report title: Money Market Mutual Fund Asset Reports

Agency form number: FR 2051a, b

OMB Control number: 7100-0012

Frequency: Weekly and Monthly

Reporters: Money Market Mutual Funds

Annual reporting hours: 7,140 hours

Estimated average hours per response: 3 minutes (FR 2051a), 12 minutes (FR 2051b)

Number of respondents: 2,100 (FR 2051a), 700 (FR 2051b)

General description of report: This information collection is voluntary (12 U.S.C. 353 et. seq.) and is given confidential treatment (5 U.S.C. 552(b)(4)).

Abstract: The weekly FR 2051a collects data on total shares outstanding for money market mutual funds (MMMFs) and the monthly FR 2051b collects data on total net assets and portfolio holdings for MMMFs. The data are used to construct the monetary aggregates and for the analysis of current money market conditions and banking developments.

2. Report title: Uniform Application for Municipal Securities Principal or Municipal Securities Representative Associated with a Bank Municipal Securities Dealer; Uniform Termination Notice for Municipal Securities Principal or Municipal Securities Representative Associated with a Bank Municipal Securities Dealer

Agency form number: FR MSD-4, FR MSD-5

OMB control number: 7100-0100, 7100-0101

Frequency: On occasion

Reporters: State member banks, bank holding companies, and foreign dealer banks engaging in activities as municipal securities dealers.

Annual reporting hours: 30 (FR MSD-4), 18 (FR MSD-5)

Estimated average hours per response: 1.00 (FR MSD-4), 0.25 (FR MSD-5)

Number of respondents: 30 (FR MSD-4), 70 (FR MSD-5)

General description of report: These information collections are mandatory (15 U.S.C. §§ 78o-4, 78q and 78w) and are given confidential treatment (5 U.S.C. § 552(b)(6)).

Abstract: The FR MSD-4 collects information, such as personal history and professional qualifications, on an employee whom the bank wishes to assume the duties of a municipal securities principal or representative. The FR MSD-5 collects the date of, and reason for, termination of such an employee.

3. Report title: Notice By Financial Institutions of Government Securities Broker or Government Securities Dealer Activities; Notice By Financial Institutions of Termination of Activities as a Government Securities Broker or Government Securities Dealer.

Agency form number: FR G-FIN, FR G-FINW

OMB control number: 7100-0224

Frequency: On occasion

Reporters: State member banks, foreign banks, uninsured state branches or state agencies of foreign banks, commercial lending companies owned or controlled by foreign banks, and Edge corporations.

Annual reporting hours: (FR G-FIN), 1 (FR G-FINW)

Estimated average hours per response: 1.00 (FR G-FIN), 0.25 (FR G-FINW)

Number of respondents: 25 (FR G-FIN), 4 (FR G-FINW)

General description of report: These information collections are mandatory (15 U.S.C. 78o-5(a)(1)(B)) and are not given confidential treatment.

Abstract: The Government Securities Act of 1986 (the Act) requires financial institutions to notify their appropriate regulatory authority of their intent to engage in government securities broker or dealer activity, to amend information submitted previously, and to record their termination of such activity. The Federal Reserve uses the information in its supervisory capacity to measure compliance with the Act.

Board of Governors of the Federal Reserve System, April 2, 2004.

Jennifer J. Johnson,
Secretary of the Board.

[FR Doc. 04-7991 Filed 4-7-04; 8:45 am]

BILLING CODE 6210-01-S